AGENCY FOR INTERNATIONAL DEVELOPMENT

Board for International Food and Agricultural Development; Notice of Meeting

Pursuant to the Federal Advisory Committee Act, notice is hereby given of the public meeting of the Board for International Food and Agricultural Development (BIFAD). The meeting will be held from 12:30 p.m. to 4:45 p.m. on Tuesday, October 14, 2014 in Salon B of the Des Moines Marriott Downtown Hotel in Des Moines, Iowa. The meeting will be streamed live on the Internet. The link to the global live stream is on BIFAD's home page: http://www.usaid.gov/bifad.

The central theme of this year's meeting will be Feeding the World in 2050: Agricultural Research Capacity and Youth Engagement. Dr. Brady Deaton, BIFAD Chair, will preside over the public business meeting, which will begin promptly at 12:30 p.m. with opening remarks. At this public meeting, the Board will address old and new business and hear from USAID, the university community, and other experts on progress and mechanisms for advancing programming in agricultural research and capacity development.

BIFAD Chairman Deaton will present an outreach report on his participation in the World Edible Legume Research Conference hosted by the USAID Innovation Lab for Grain Legumes. The first panel in the session will inform BIFAD and the public on updates from USAID principals on the Presidential Feed the Future Initiative and other USAID initiatives, including progress to date and the Feed the Future research, policy and capacity development strategy. USAID principals also will present the USAID Nutrition Strategy.

Starting at 1:45 p.m., BIFAD member Harold Martin will chair a second panel on Needs for agricultural research capacity to feed the world in 2050. George Norton from Virginia Polytechnic Institute and State University (Virginia Tech) will discuss returns to investment in agricultural research and Keith Fuglie from the USDA Economic Research Service will explain the use of Total Factor Productivity Studies in measuring agricultural research investments.

The third panel session, chaired by BIFAD Chair Deaton, will focus on Youth Engagement in Food Security Efforts. Dean June Henton will discuss the Auburn University Hunger Initiative, and Gary Burniske, Purdue Managing Director of the Purdue University Global Food Security Center, will provide an update on the Global Food Security Fellows Program, a USAID program for US university students.

At 3:30 p.m. the BIFAD Awards for Scientific Excellence in a Title XII Innovation Lab will be announced and presented by Chair Deaton and BIFAD member Waded Cruzado, followed by a half-hour public comment period from 4:00-4:30 p.m. At 4:30 p.m. Chair Brady Deaton will make closing remarks and adjourn the public meeting.

Those wishing to attend the meeting or obtain additional information about BIFAD should contact Susan Owens, Executive Director and Designated Federal Officer for BIFAD in the Bureau for Food Security at USAID. Interested persons may write to her in care of the U.S. Agency for International Development, Ronald Reagan Building, Bureau for Food Security, 1300 Pennsylvania Avenue NW., Room 2.09-067, Washington, DC 20523-2110 or telephone her at (202) 712-0218.

Susan Owens,
Executive Director and USAID Designated Federal Officer for BIFAD, Bureau for Food Security, U.S. Agency for International Development.

[FR Doc. 2014-22839 Filed 9-24-14; 8:45 am]

BILLING CODE P